Title 3—

The President

Proclamation 9258 of April 20, 2015

National Park Week, 2015

By the President of the United States of America

A Proclamation

America's grandeur and God-given bounty are the birthright of all our people. Our national parks, monuments, lands, and waters belong to us all, and every person should be able to use and enjoy these unparalleled public lands. To celebrate the places that make America great—the treasures that writer and conservationist Wallace Stegner once called “the geography of hope”—and to kick off National Park Week, this weekend the National Park Service is offering free admission. I encourage all people to explore our natural wonders and rediscover the essential part of the American spirit they reflect.

As our Nation prepares to celebrate the centennial of the National Park Service next year, my Administration is encouraging Americans to “Find Your Park” all year long. America's public lands and waters are living classrooms, active laboratories, and vast playgrounds, offering space to get outside and be active. These places reflect our heritage and help tell the stories about giants of our history and extraordinary chapters of our past. They teach us about ourselves, rejuvenate our spirit, and keep us connected to what it means to be American. They offer something for everyone, and chances are, there is a National Park closer to you than you think. To learn more, visit www.FindYourPark.com.

As President, I am committed to ensuring every child in America—regardless of who they are or where they live—has this opportunity to discover the great outdoor spaces that have inspired women and men for generations. That is why earlier this year I launched the Every Kid in a Park initiative, which will provide all fourth graders and their families with free admission to our National Parks and other Federal lands and waters for a full year. My Administration will also work to make it easier for schools and families to plan trips to visit these places of natural splendor, helping to ensure all our young people have the chance to experience for themselves some of our Nation's greatest assets.

Americans are heirs to an extraordinary legacy of conservation and environmental stewardship that has protected our great outdoors for the use and benefit of all. We are blessed with the most beautiful landscapes and waterscapes in the world, and it is our obligation to make sure the next generation is able to enjoy that same bounty. I am proud to have protected more than 260 million additional acres of public lands and waters—more than any other President—which includes the establishment or expansion of 16 National Monuments through my Executive authority. And my Administration continues to take action to protect our lands and waters from the impacts of climate change, and to support important programs like the Land and Water Conservation Fund that make the outdoors easier to access for all people.

This week, we embrace our cherished lands and waters, and celebrate the ways they enrich our Nation. Let us seize this opportunity to experience all our great outdoors has to offer, and let us recommit to doing our part to preserve these majestic places for all our children and grandchildren.

NOW, THEREFORE, I, BARACK OBAMA, President of the United States of America, by virtue of the authority vested in me by the Constitution and the laws of the United States, do hereby proclaim April 18 through April 26, 2015, as National Park Week. I encourage all Americans to visit their National Parks and be reminded of these unique blessings we share as a Nation.

IN WITNESS WHEREOF, I have hereunto set my hand this twentieth day of April, in the year of our Lord two thousand fifteen, and of the Independence of the United States of America the two hundred and thirty-ninth.

[FR Doc. 2015-09641

Filed 4-22-15; 11:15 am]

Billing code 3295-F5